DEPARTMENT OF TRANSPORTATION

Federal Aviation Administration

Drone Advisory Committee (DAC); Meeting

AGENCY: Federal Aviation Administration (FAA), U.S. Department of Transportation (DOT).

ACTION: Notice of Drone Advisory Committee (DAC) meeting.

SUMMARY: This notice announces a meeting of the DAC.

DATES: The meeting will be held on Thursday, October 17, 2019, from 9:00 a.m. to 4:00 p.m. Eastern Time.

Requests to attend the meeting must be received by October 10, 2019.

Requests for accommodations to a disability must be received by Thursday, October 10, 2019.

Requests to submit written materials to be reviewed during the meeting must be received no later than Thursday, October 10, 2019.

ADDRESSES: The meeting will be held at the National Transportation Safety Board Boardroom and Conference Center located at 420 10th Street SW, Washington, DC 20594. Members of the public who wish to attend, must register by emailing DACmeetingRSVP@faa.gov. Copies of the meeting minutes will be available on the DAC Committee website at https://www.faa.gov/uas/programs_partnerships/drone_advisory_committee/. A final agenda will be posted on the FAA's Notices of Public Meetings web page (https://www.faa.gov/regulations_policies/rulemaking/npm/). You can visit the DAC Committee website at https://www.faa.gov/uas/programs_partnerships/drone_advisory_committee/.

FOR FURTHER INFORMATION CONTACT: For questions about the DAC, please visit https://www.faa.gov/uas/programs_partnerships/drone_advisory_committee/ or contact Jessica Orquina, Senior Communications Specialist, Executive Office, UAS Integration Office, at jessica.a.orquina@faa.gov or 202-267-7493. Any other committee-related request should be sent to the person listed in this section.

SUPPLEMENTARY INFORMATION:

I. Background

The DAC was created under the Federal Advisory Committee Act (FACA), in accordance with Title 5 of the United States Code (5 U.S.C. App. 2) to provide the FAA with advice on key UAS integration issues by helping to identify challenges and prioritize improvements.

II. Agenda

The agenda will likely include, but may not be limited to, the following:

• Official Statement of the Designated Federal Officer

• Approval of the Agenda and Minutes

• Opening Remarks

• FAA Update

• Industry-Led Technical Topics

• New Business/Agenda Topics

• Closing Remarks

• Adjourn

III. Public Participation

The meeting will be open to the public on a first-come, first served basis, as space is limited. Registration is required for this meeting; members of the public may register at DACmeetingRSVP@faa.gov until October 10, 2019. Please provide the following information: Full legal name, country of citizenship, and name of your industry association, or applicable affiliation. If you are attending as a public citizen, please indicate so.

The U.S. Department of Transportation is committed to providing equal access to this meeting for all participants. If you need alternative formats or services because of a disability, such as sign language, interpretation, or other ancillary aids, please contact the person listed under the heading FOR FURTHER INFORMATION CONTACT. Sign and oral interpretation, as well as a listening device, can be made available if requested by October 10, 2019.

The public may present written statements to the committee at any time. Written statements submitted by October 10, 2019, will be provided to the DAC members before the meeting. The FAA is not accepting oral presentations at this meeting due to time constraints.

Issued in Washington, DC, on September 23, 2019.
Erik W. Amend,
Manager, Executive Office, AUS-10, FAA UAS Integration Office.

[FR Doc. 2019-21059 Filed 9-27-19; 8:45 am]

BILLING CODE 4910-13-P